DEPARTMENT OF HEALTH AND HUMAN SERVICES

Administration for Children and Families

45 CFR Chapter XIII, Subchapter B

RIN 0970-AC63

Head Start Performance Standards; Extension of Comment Period

AGENCY: Office of Head Start, Administration for Children and Families (ACF), Department of Health and Human Services (HHS).

ACTION: Notice; extension of comment period.

SUMMARY: The Administration for Children and Families extends the comment period for the notice of proposed rulemaking entitled, “Head Start Performance Standards.” We take this action to respond to requests from the public for more time to submit comments. The notice of proposed rulemaking and our request for comments appeared in the Federal Register on June 19, 2015. We initially set August 18, 2015 as the deadline for the comment period. To allow the public more time, we extend the comment period for an additional 30 days.

DATES: ACF extends the comment period for notice of proposed rulemaking entitled, “Head Start Performance Standards” published on June 19, 2015 (80 FR 35430), to September 17, 2015. Submit either electronic or written comments by September 17, 2015.

ADDRESSES: Follow online instructions at www.regulations.gov to submit comments. This approach is our preferred method for receiving comments. Additionally, you may send comments via the United States Postal Service to: Office of Head Start, Attention: Director of Policy and Planning, 1250 Maryland Avenue SW., Washington, DC 20024.

To ensure we can effectively respond to your comment(s), clearly identify the issue(s) on which you are commenting. Provide the page number, identify the column, and cite the paragraph from the Federal Register document, (i.e, On page 10999, second column, § 1305.6(a)(1)(i) . . .). All comments received are a part of the public record and will be posted for public viewing on www.regulations.gov, without change. That means all personal identifying information (such as name or address) will be publicly accessible. Please do not submit confidential information, or otherwise sensitive or protected information. We accept anonymous comments. If you wish to remain anonymous, enter “N/A” in the required fields.

FOR FURTHER INFORMATION CONTACT: Colleen Rathgeb, Office of Head Start Policy and Planning Division Director, (202) 358-3263, OHS_NPRM@acf.hhs.gov.

SUPPLEMENTARY INFORMATION: HHS published the Head Start Performance Standards notice of proposed rulemaking in the Federal Register on June 19, 2015 (80 FR 35430), with a deadline for public comments on August 18, 2015. In response to requests for more time from the public, we extend the comment period from August 18, 2105, to September 17, 2015.

Mark H. Greenberg,
Acting Assistant Secretary for Children and Families.
Approved: August 5, 2015.
Sylvia Matthews Burwell,
Secretary.

[FR Doc. 2015-19747 Filed 8-11-15; 8:45 am]

BILLING CODE P